Proclamation 8382 of May 15, 2009

Small Business Week, 2009

By the President of the United States of America

A Proclamation

The entrepreneurial spirit lies at the core of our Nation's economy and identity. If Americans with good ideas can work hard, put their plan to the test, and succeed, the American economy will continue to create jobs and lead the world in innovation and productivity. During National Small Business Week, we honor the entrepreneurs and small business owners who are the engine of our economy. Their ingenuity and hard work are critical to our Nation's prosperity.

Small businesses are the lifeblood of cities and towns across the country. Over the last decade, small businesses created 70 percent of new jobs, and they are responsible for half of all jobs in the private sector. They also help enhance the lives of our citizens by improving our quality of life and creating personal wealth. Small businesses will lead the way to prosperity, particularly in today's challenging economic environment.

My Administration is committed to economic policies that encourage enterprise and make America the best place in the world to do business. To support the free flow of credit, I have worked to increase loan guarantees, reduce borrowing fees, quicken loan processing, and unlock the secondary markets that support small business lending, among other measures. I also support tax policies that promote investment in small businesses, as well as health care reform that will help these businesses provide more workers with quality health care services.

Our Nation's success depends on America's small businesses and entrepreneurs. Their contributions are necessary to rebuild our economy so that it once again offers the opportunity to succeed to all who seek it. This week we thank small business owners, entrepreneurs, and employees for helping America achieve that promise.

NOW, THEREFORE, I, BARACK OBAMA, President of the United States of America, by virtue of the authority vested in me by the Constitution and laws of the United States, do hereby proclaim May 17 through May 23, 2009, as National Small Business Week. I call upon Government officials, industry leaders, and advocates across the Nation to encourage our citizens to celebrate the achievements of small business owners and encourage the creation of new businesses.

IN WITNESS WHEREOF, I have hereunto set my hand this fifteenth day of May, in the year of our Lord two thousand nine, and of the Independence of the United States of America the two hundred and thirty-third.

[FR Doc. E9-11920

Filed 5-19-09; 8:45 am]

Billing code 3195-W9-P